FEDERAL COMMUNICATIONS COMMISSION

47 CFR Part 73

[MB Docket No. 07-91; FCC 07-228]

Third Periodic Review of the Commission's Rules and Policies Affecting the Conversion to Digital Television

AGENCY: Federal Communications Commission.

ACTION: Final rule; announcement of effective date.

SUMMARY: In this document, the Commission announces that the Office of Management and Budget (OMB) has approved, for a period of three years, the information collection(s) associated with Section 73.624(g) of the rules, and that this revised rule will take effect as of the date of this notice. On January 30, 2008, the Commission published the summary document of the Report and Order, In the Matter of the Third Periodic Review of the Commission's Rules and Policies Affecting the Conversion to Digital Television, MB Docket No. 07-91, FCC 07-228, at 73 FR 5634. The Ordering Clause of the Report and Order stated that the Commission would publish a notice in the Federal Register announcing when OMB approval for this rule section has been received and when the revised rule will take effect. This notice is consistent with the statement in the Report and Order.

DATES: Effective November 10, 2008.

FOR FURTHER INFORMATION CONTACT: For additional information, please contact Evan Baranoff, Evan.Baranoff@fcc.gov, or Kim Matthews, Kim.Matthews@fcc.gov, of the Media Bureau, Policy Division, (202) 418-2120.

SUPPLEMENTARY INFORMATION: This document announces that, on October 31, 2008, OMB approved, for a period of three years, the information collection requirement(s) contained in section 73.624(g) of the rules. The Commission publishes this notice to announce the effective date of this rule. If you have any comments on the burden estimates listed below, or how the Commission can improve the collections and reduce any burdens caused thereby, please contact Cathy Williams, Federal Communications Commission, Room 1-C823, 445 12th Street, SW., Washington, DC 20554. Please include the OMB Control Number, 3060-0906, in your correspondence. The Commission will also accept your comments via the Internet if you send them to PRA@fcc.gov.

To request materials in accessible formats for people with disabilities (Braille, large print, electronic files, audio format), send an e-mail to fcc504@fcc.gov or call the Consumer & Governmental Affairs Bureau at (202) 418-0530 (voice), (202) 418-0432 (TTY).

Synopsis

As required by the Paperwork Reduction Act of 1995 (44 U.S.C. 3507), the Commission is notifying the public that it received OMB approval on October 31, 2008, for the information collection requirement(s) contained in the Commission's rules at 47 CFR 73.624(g).

Under 5 CFR part 1320, an agency may not conduct or sponsor a collection of information unless it displays a current, valid OMB Control Number.

No person shall be subject to any penalty for failing to comply with a collection of information subject to the Paperwork Reduction Act that does not display a valid OMB Control Number.

The OMB Control Number is 3060-0906 and the total annual reporting burden for respondents for this collection of information is as follows:

OMB Control Number: 3060-0906.

OMB Approval Date: 10/31/2008.

Expiration Date: 10/31/2011.

Title: Annual DTV Report, FCC Form 317; 47 CFR Section 73.624(g).

Form Number: FCC Form 317.

Type of Review: Revision of a currently approved collection.

Respondents: Business or other for-profit entities; Not-for-profit institutions.

Number of Respondents/Responses: 1,815 respondents; 3,630 responses.

Estimated Hours per Response: 2.0 hours-4.0 hours

Frequency of Response: Recordkeeping requirement; Annual reporting requirement.

Total Annual Burden: 10,890 hours.

Annual Burden Cost: $181,500.

Obligation to Respond: Required to obtain or retain benefits. The statutory authority for this collection of information is contained in Sections 154(i), 303, 336 and 403 of the Communications Act of 1934, as amended.

Nature and Extend of Confidentiality: There is no need for confidentiality with this collection of information.

Privacy Impact Assessment: No impact(s).

Needs and Uses: Congress has mandated that after February 17, 2009, full-power television broadcast stations must transmit only in digital signals, and may no longer transmit analog signals. On December 22, 2007, the Commission adopted a Report and Order In the matter of the Third Periodic Review of the Commission's Rules and Policies Affecting the Conversion to Digital Television, MB Docket No. 07-91, FCC 07-228, to establish the rules, policies and procedures necessary to complete the nation's transition to DTV. Specifically, as a result of the Report and Order, DTV stations that are permittees must comply with the requirements for feeable ancillary or supplementary services in section 73.624(g) (using FCC Form 317).

Federal Communications Commission.
Marlene H. Dortch,
Secretary.

[FR Doc. E8-26738 Filed 11-7-08; 8:45 am]

BILLING CODE 6712-01-P